DEPARTMENT OF THE INTERIOR

Bureau of Land Management

[LLOR936000.L14400000.ET0000.15XL1109AF; HAG 15-0155; OR-50500]

Public Land Order No. 7850; Extension of Public Land Order No. 7184, Elk River Wild and Scenic Corridor; Oregon

AGENCY: Bureau of Land Management, Interior.

ACTION: Public Land Order.

SUMMARY: This order extends the duration of the withdrawal created by Public Land Order No. 7184 for an additional 20-year period, which would otherwise expire on February 13, 2016. This extension is necessary to continue the protection of the investment of Federal funds and recreational and visual resources of the Elk River Wild and Scenic Corridor within the Siskiyou National Forest in Oregon.

DATES: This withdrawal extension is effective on February 14, 2016.

FOR FURTHER INFORMATION CONTACT: Robin Ligons, Bureau of Land Management Oregon/Washington State Office, 503-808-6169, or Candice Polisky, U.S. Forest Service, Region 6, Pacific Northwest Regional Office, 503-808-2479. Persons who use a telecommunications device for the deaf (TDD) may call the Federal Information Relay Service (FIRS) at 1-800-877-8339 to reach either of the above contacts. The FIRS is available 24 hours a day, 7 days a week, to leave a message or question with either of the above individuals. You will receive a reply during normal business hours.

SUPPLEMENTARY INFORMATION: The purpose for which the withdrawal was first made requires this extension to continue protection of the Federal investment of approximately $6.6 million in recreational developments and fisheries in the Elk River Wild and Scenic Corridor within the Siskiyou National Forest located in Curry County, Oregon.

Order

By virtue of the authority vested in the Secretary of the Interior by Section 204 of the Federal Land Policy and Management Act of 1976, 43 U.S.C. 1714, it is ordered as follows:

Public Land Order No. 7184 (61 FR 5719 (1996)), as corrected (61 FR 24948 (1996)), which withdrew 4,921 acres of National Forest System lands from location and entry under the United States mining laws, but not from leasing under the mineral leasing laws, to protect the significant recreational and visual resources of the Elk River Wild and Scenic Corridor, is hereby extended for an additional 20-year period. The withdrawal extended by this order will expire on February 13, 2036, unless, as a result of a review conducted prior to the expiration date pursuant to Section 204(f) of the Federal Land Policy and Management Act of 1976 43 U.S.C. 1714, the Secretary determines that the withdrawal shall be further extended.

Dated: January 31, 2016.
Janice M. Schneider,
Assistant Secretary—Land and Minerals Management.

[FR Doc. 2016-02797 Filed 2-10-16; 8:45 am]

BILLING CODE 3410-15-P